Title 3—

The President

Proclamation 8165 of August 20, 2007

National Ovarian Cancer Awareness Month, 2007

By the President of the United States of America

A Proclamation

National Ovarian Cancer Awareness Month is an opportunity to underscore our commitment to fighting ovarian cancer and to finding a cure for this deadly disease.

Ovarian cancer is one of the leading causes of cancer-related deaths among women in our country, and the risk of developing it increases with age and a family history of this disease. Other risk factors include a history of endometrial, colon, or breast cancer, and obesity. Because early detection is crucial in treating ovarian cancer and its symptoms can be difficult to identify, women should consult their doctors about personal risk factors, early warning signs, and screening options.

Our Nation has made progress in the fight against ovarian cancer, yet much more work remains. I signed the “Gynecologic Cancer Education and Awareness Act of 2005,” or “Johanna's Law,” which supports a national campaign to raise awareness among women and health care providers regarding gynecologic cancers. In FY 2007, the National Institutes of Health will invest an estimated $102 million into ovarian cancer research through the National Cancer Institute and other institutes. In addition, the Centers for Disease Control and Prevention will dedicate nearly $5 million. We will continue to commit our resources to seek better ways to prevent, detect, and ultimately cure ovarian cancer.

During National Ovarian Cancer Awareness Month, Americans remember those who have lost their lives to ovarian cancer, and we honor the courage and strength of those who continue to fight this disease. We also recognize the dedicated medical professionals and researchers whose tireless efforts help provide a brighter, healthier future for women.

NOW, THEREFORE, I, GEORGE W. BUSH, President of the United States of America, by virtue of the authority vested in me by the Constitution and laws of the United States, do hereby proclaim September 2007 as National Ovarian Cancer Awareness Month. I call upon government officials, businesses, communities, health care professionals, educators, volunteers, and the people of the United States to continue our Nation's strong commitment to preventing and treating ovarian cancer.

IN WITNESS WHEREOF, I have hereunto set my hand this twentieth day of August, in the year of our Lord two thousand seven, and of the Independence of the United States of America the two hundred and thirty-second.

[FR Doc. 07-4155

Filed 8-22-07; 8:45 am]

Billing code 3195-01-P